OFFICE OF THE UNITED STATES TRADE REPRESENTATIVE

[Docket Number USTR-2022-0002]

Request for Comments on the Proposed Fair and Resilient Trade Pillar of an Indo-Pacific Economic Framework

AGENCY: Office of the United States Trade Representative.

ACTION: Notice.

SUMMARY: On October 27, 2021, President Biden announced that the United States would explore the development of an Indo-Pacific Economic Framework (IPEF) to deepen economic relations in the Indo-Pacific region and coordinate approaches to addressing global economic challenges. The Secretary of Commerce and the U.S. Trade Representative will co-chair the U.S. team leading the IPEF negotiations. The Office of the United States Trade Representative (USTR) will lead the IPEF's pillar on Fair and Resilient Trade, and the Department of Commerce will lead the IPEF's pillars on: (1) Supply Chain Resiliency; (2) Clean Energy, Decarbonization, and Infrastructure; and (3) Taxation and Anti-Corruption. Accordingly, USTR is seeking public comments on matters relevant to the Fair and Resilient Trade pillar, including U.S. interests and priorities, in order to develop U.S. negotiating objectives and positions and identify potential partners.

DATES: The deadline for the submission of written comments is April 11, 2022.

ADDRESSES: You should submit written comment through the Federal eRulemaking Portal: https://www.regulations.gov (Regulations.gov). Follow the instructions for submissions in parts II and III below. For procedural questions concerning written comments, please contact Spencer Smith at Spencer.L.Smith2@ustr.eop.gov or (202) 395-2974 in advance of the deadline and before transmitting a comment.

FOR FURTHER INFORMATION CONTACT: Direct all other questions to Colette Morgan, Director for Southeast Asia and the Pacific, at Colette.M.Morgan@ustr.eop.gov or (202) 395-9535.

SUPPLEMENTARY INFORMATION:

I. Background

On October 27, 2021, President Biden announced that the United States would explore the development of an IPEF that will contain multiple pillars covering key areas of interest, including fair and resilient trade. Negotiating an agreement under the Fair and Resilient Trade pillar is an important step towards strengthening U.S. economic engagement in the Indo-Pacific region and promoting durable, broad-based economic growth. Under the Fair and Resilient Trade pillar, the Administration aims to develop high-standard, worker-centered commitments in the following areas:

• Labor

• Environment and climate

• Digital economy

• Agriculture

• Transparency and good regulatory practices

• Competition policy

• Trade facilitation

The United States will build upon high-standard trade commitments and develop new approaches in trade policy to advance a broad set of worker-centered priorities, and promote durable, broad-based economic growth. At this time, the Administration is not seeking to address tariff barriers.

II. Public Comment

The Trade Policy Staff Committee (TPSC) invites interested parties to submit comments to assist USTR as it develops negotiating objectives and positions for the IPEF trade pillar. In particular, the TPSC invites interested parties to comment on issues that USTR should address in the negotiations, including the following:

1. General negotiating objectives for the proposed agreement.

2. Labor-related matters.

3. Environment and climate-related matters.

4. Digital economy-related matters.

5. Agriculture-related matters.

6. Transparency and good regulatory practice issues.

7. Competition-related matters.

8. Customs and trade facilitation issues.

9. Issues of particular relevance to small and medium-sized businesses that should be addressed in the negotiations.

10. Other measures or practices, including those of third-country entities, which undermine fair market opportunities for U.S. workers, farmers, ranchers, and businesses.

USTR requests small businesses (generally defined by the Small Business Administration as firms with fewer than 500 employees) or organizations representing small business members that submit comments to self-identify as such, so that USTR is aware of issues of particular interest to small businesses.

III. Requirements for Submissions

Persons submitting written comments must do so in English and must identify on the first page of the submission `Comments Regarding Fair and Resilient Trade Pillar'. The submission deadline is April 11, 2022.

USTR strongly encourages commenters to make online submissions, using Regulations.gov. To submit comments via Regulations.gov, enter docket number USTR-2022-0002 on the home page and click `search.' The site will provide a search-results page listing all documents associated with this docket. Find a reference to this notice and click on the link entitled `Comment Now.' For further information on using Regulations.gov, please consult the resources provided on the website by clicking on `How to Use This Site' on the left side of the home page.

Regulations.gov allows users to submit comments by filling in a `type comment' field, or by attaching a document using an `upload file' field. USTR prefers that you provide comments in an attached document. If you attach a document, please identify the name of the country to which the submission pertains in the `type comment' field, e.g., see attached comments with respect to (name of country). USTR prefers submissions in Microsoft Word (.doc) or Adobe Acrobat (.pdf). If you use an application other than those two, please indicate the name of the application in the `type comment' field.

Filers submitting comments containing no business confidential information (BCI) should name their file using the name of the person or entity submitting the comments. For any comments submitted electronically containing BCI, the file name of the business confidential version should begin with the characters `BCI.' Clearly mark any page containing BCI with `BUSINESS CONFIDENTIAL' on the top of that page. Filers of submissions containing BCI also must submit a public version of their comments that USTR will place in the docket for public inspection. The file name of the public version should begin with the character `P.' Follow the `BCI' and `P' with the name of the person or entity submitting the comments.

Please do not attach separate cover letters to electronic submissions; rather, include any information that might appear in a cover letter in the comments themselves. Similarly, to the extent possible, please include any exhibits, annexes, or other attachments in the same file as the submission itself, not as separate files.

As noted, USTR strongly urges that you file comments through Regulations.gov. You must make any alternative arrangements with Spencer Smith at Spencer.L.Smith2@ustr.eop.gov or (202) 395-2974 before transmitting a comment and in advance of the deadline.

USTR will post comments in the docket for public inspection, except properly designated BCI. You can view comments on the Regulations.gov by entering docket number USTR-2022-0002 in the search field on the home page. General information concerning USTR is available at https://www.ustr.gov.

William Shpiece,
Chair of the Trade Policy Staff Committee, Office of the United States Trade Representative.

[FR Doc. 2022-05044 Filed 3-9-22; 8:45 am]

BILLING CODE 3290-F2-P